DEPARTMENT OF ENERGY

Federal Energy Regulatory Commission

[Project No. 2082-039]

PacifiCorp; Notice of Petition for Declaratory Order and Soliciting Comments, Motions To Intervene, and Protests

November 9, 2005.

On October 3, 2005, the United States Department of the Interior (Interior), filed a petition for a declaratory order to resolve matters relating to the terms and conditions of any annual license that may issue for the Klamath Hydroelectric Project No. 2082, which is licensed to PacifiCorp. The project is located primarily on the Klamath River in Klamath County, Oregon, and Siskiyou County, California.

The petition contends that the project license includes a contract between Interior and PacifiCorp's predecessor in interest, California Oregon Power Company, which the Commission required to be executed and filed as a condition of issuance of the license (Link River Dam contract). The Link River Dam contract provides, among other things, for the licensee to furnish electric power at specified rates to the United States for pumping and drainage of irrigation water at the Klamath River irrigation project, which is administered by Interior's Bureau of Reclamation. Interior seeks a declaration that the terms and conditions of the Link River Dam contract, particularly those relating to the sale of power, will continue in force during any annual licenses issued for the project when the existing license expires on March 1, 2006.

Any person desiring to be heard or to protest the petition should file comments, a protest, or a motion to intervene in accordance with the requirements of the Commission's Rules of Practice and Procedure, 18 CFR 385.210, 385.211 and 385.214. In determining the appropriate action to take, the Commission will consider all protests and other comments, but only those who file a motion to intervene may become parties to the proceeding. Comments, protests, or motions to intervene must be filed within 10 days of publication of this notice in the Federal Register and must bear in all capital letters the title “COMMENTS,” “PROTEST,” or “MOTION TO INTERVENE,” as applicable, and Project No. 2082-039.

Comments, protests, and interventions may be filed electronically via the internet in lieu of paper. See 18 CFR 385.2001(a)(1)(iii) and the instructions on the Commission's web site under the “e-filing” link.

Send the filings (original and 8 copies) to: The Secretary, Federal Energy Regulatory Commission, 888 First Street, NE., Washington, DC 20426. Copies of the petition for declaratory order are on file with the Commission and are available for public inspection in Room 2A and may also be viewed on the Web at http://www.ferc.gov/onlinerims.htm. For assistance, call (202) 502-8222 or for TTY, (202) 208-1659.

Magalie R. Salas,
Secretary.

[FR Doc. E5-6343 Filed 11-16-05; 8:45 am]

BILLING CODE 6717-01-P